DEPARTMENT OF THE INTERIOR

Fish and Wildlife Service

[FWS-R3-R-2009-N137; 30136-1265-0000-S3]

Kirtland's Warbler Wildlife Management Area, Located Throughout 8 Counties in the Northern Lower Peninsula of MI

AGENCY: Fish and Wildlife Service, Interior.

ACTION: Notice of availability: Final Comprehensive Conservation Plan and Finding of No Significant Impact for Environmental Assessment.

SUMMARY: We, the U.S. Fish and Wildlife Service (Service), announce the availability of the Final Comprehensive Conservation Plan (CCP) and Finding of No Significant Impact (FONSI) for the Environmental Assessment (EA) for Kirtland's Warbler Wildlife Management Area (Kirtland's Warbler WMA). Goals and objectives in the CCP describe how the agency intends to manage Kirtland's Warbler WMA for the next 15 years.

ADDRESSES: Copies of the Final CCP and FONSI/EA may be viewed at the Seney National Wildlife Refuge Headquarters or at public libraries near the Kirtland's Warbler WMA. You may access and download a copy via the Planning Web site at http://www.fws.gov/midwest/Planning/kirtland or you may obtain a copy on compact disk by contacting: U.S. Fish and Wildlife Service, Division of Conservation Planning, Bishop Henry Whipple Federal Building, 1 Federal Drive, Fort Snelling, MN 55111 (1-800-247-1247, extension 5429), or Seney National Wildlife Refuge, 1674 Refuge Entrance Road, Seney, MI 49883 (906-586-9851). A limited number of hardcopies will be available for distribution at the Refuge Headquarters.

FOR FURTHER INFORMATION CONTACT: Greg McClellan, (906-586-9851).

SUPPLEMENTARY INFORMATION:

Introduction

With this notice, we complete the CCP process for Kirtland's Warbler WMA, which began by publishing a notice of intent (71 FR 20722, April 21, 2006). For more information about the initial process, see that notice. We released the draft CCP and EA to the public, announcing and requesting comments in a notice of availability (74 FR 16887, April 13, 2009).

The U.S. Fish and Wildlife Service established the wildlife management area in the early 1980s due, in part, to the recommendations of the Kirtland's Warbler Recovery Team. The original goal was to acquire 7,500 acres of land on which habitat would be managed for the benefit of Kirtland's Warbler. At present, the area contains 124 separate tracts totaling 6,582 acres.

The Draft CCP/EA was released for public review April 3, 2009; the comment period lasted 42 days ending May 15, 2009. By the conclusion of the comment period we received 5 written responses from organizations and individuals. In response to these comments we made a number of minor edits to the final document.

Selected Alternative

After considering the comments received, we have selected Alternative 3 (Ecological Management and Land Ownership Consolidation) for implementation. Under the selected alternative we would seek to manage existing lands as suggested in Alternative 2, but would also explore land exchanges with the State (and possibly U.S. Forest Service) to consolidate State and WMA parcels. Proposed land exchanges would likely increase the total area of land managed for Kirtland's Warbler, as well as increase management efficiency by both federal and state agencies. Existing lands and any new lands acquired through exchange would be managed to benefit the Kirtland's Warbler and other native flora and fauna of jack pine ecosystems. However, the way jack pine stands would be managed would be shifted towards a more ecologically-based approach rather than the highly intensive manner of present habitat management that produces jack pine plantations. For instance, if consolidation would occur and the Service would obtain upland jack pine stands in the eastern Upper Peninsula, prescribed fire would be a more likely management tool.

Background

The National Wildlife Refuge System Administration Act of 1966, as amended by the National Wildlife Refuge System Improvement Act of 1997 (16 U.S.C. 668dd-668ee et seq.), requires the Service to develop a CCP for each National Wildlife Refuge. The purpose in developing a CCP is to provide refuge managers with a 15-year strategy for achieving refuge purposes and contributing toward the mission of the National Wildlife Refuge System, consistent with sound principles of fish and wildlife management, conservation, legal mandates, and Service policies. In addition to outlining broad management direction for conserving wildlife and their habitats, the CCP identifies wildlife-dependent recreational opportunities available to the public, including opportunities for hunting, fishing, wildlife observation and photography, and environmental education and interpretation.

We will review and update the CCP at least every 15 years in accordance with the National Wildlife Refuge System Administration Act of 1966, as amended by the National Wildlife Refuge System Improvement Act of 1997, and the National Environmental Policy Act of 1969 (42 U.S.C. 4321-4370d).

Dated: August 24, 2009.
Thomas O. Melius,
Regional Director, U.S. Fish and Wildlife Service, Fort Snelling, Minnesota.

[FR Doc. E9-30645 Filed 12-24-09; 8:45 am]

BILLING CODE 4310-55-P